DEPARTMENT OF COMMERCE

International Trade Administration

[A-533-808]

Notice of Initiation and Preliminary Results of Changed Circumstances Antidumping Duty Review: Stainless Steel Wire Rods from India

AGENCY: Import Administration, International Trade Administration, Department of Commerce.

SUMMARY: The Department of Commerce (the Department) received a request for initiation of a changed-circumstances review of the antidumping duty order on stainless steel wire rods (wire rods) from India from India Steel Works Limited (India Steel). After reviewing this request, we preliminarily determine that India Steel is the successor-in-interest to Isibars Limited (Isibars) and should therefore be accorded the same treatment previously accorded to Isibars with respect to the antidumping duty order on wire rods from India. Interested parties are invited to comment on these preliminary results.

EFFECTIVE DATE: September 25, 2008.

FOR FURTHER INFORMATION CONTACT: Edythe Artman or Minoo Hatten, AD/CVD Operations, Office 5, Import Administration, International Trade Administration, U.S. Department of Commerce, 14th Street and Constitution Avenue, NW, Washington, DC 20230; telephone: (202) 482-3931 and (202) 482-1690, respectively.

SUPPLEMENTARY INFORMATION:

Background

On December 1, 1993, the Department published an antidumping duty order on wire rods from India. See Antidumping Duty Order: Certain Stainless Steel Wire Rods from India, 58 FR 63335 (December 1, 1993). On August 4, 2008, the Department received a request for a changed-circumstances review of this order from India Steel to determine if, for purposes of the antidumping law, India Steel is the successor-in-interest to Isibars.

Sales of wire rods from India produced by Isibars were last examined by the Department in the administrative review of the order covering the period December 1, 2002, through November 30, 2003. As a result of this review, Isibars received a cash-deposit rate of 30.10 percent. See Stainless Steel Wire Rod From India: Amended Final Results of Antidumping Duty Administrative Review, 70 FR 47177 (August 12, 2005) (Amended Final Results).

Scope of the Review

The merchandise under review is wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling and are normally sold in coiled form, and are of solid cross section. The majority of wire rods sold in the United States are round in cross-section shape, annealed, and pickled. The most common size is 5.5 millimeters in diameter.

The wire rods subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise subject to the order is dispositive of whether the merchandise is covered by the order.

Initiation and Preliminary Results of Changed-Circumstances Review

Pursuant to section 751(b)(1) of the Tariff Act of 1930, as amended (the Act), and 19 CFR 351.216, the Department will conduct a changed-circumstances review upon receipt of information concerning, or a request from an interested party for review of, an antidumping duty order which shows changed circumstances sufficient to warrant a review of the order. The Department finds that the documentation that India Steel submitted with its August 4, 2008, request constitutes sufficient evidence of changed circumstances to warrant such a review. Thus, in accordance with section 751(b) of the Act, the Department is initiating a changed-circumstances review to determine whether India Steel is the successor-in-interest to Isibars for purposes of determining antidumping duty liability with respect to imports of wire rods from India.

Furthermore, 19 CFR 351.221(c)(3)(ii) permits the Department to combine the notice of initiation of a changed-circumstances review and the notice of preliminary results for the review in a single notice if the Department concludes that expedited action is warranted. As explained below, we find that the evidence provided by India Steel is sufficient to preliminarily determine that this company is the successor-in-interest to Isibars.

In making a successor-in-interest determination, the Department examines several factors including, but not limited to, changes in: (1) management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460, 20461 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999) (Salmon from Norway); Industrial Phosphoric Acid from Israel; Final Results of Changed Circumstances Review, 59 FR 6944, 6945 (February 14, 1994). Thus, if the record evidence demonstrates that, with respect to the production and sale of the subject merchandise, the new company operates as the same business entity as the predecessor company, the Department may assign the new company the cash deposit rate of its predecessor. See, e.g., Salmon from Norway, 64 FR at 9980.

In accordance with 19 CFR 351.221, we preliminarily determine that India Steel is the successor-in-interest to Isisbars. In its August 4, 2008, submission, India Steel provided evidence supporting its claim to be the successor-in-interest to Isibars. Specifically, it provided the following documentation:

(1) the minutes of the September 29, 2007, annual general meeting of Isibars, showing that the name change was voted upon and approved unanimously;

(2) a certified copy of a “Fresh Certificate of Incorporation Consequent upon Change of Name,” dated October 22, 2007, and issued by the Indian Ministry of Corporate Affairs, which shows the name change;

(3) a list of the stockholders and board of directors before and after the name change, showing that they are identical;

(4) an organizational chart before and after the name change, showing that India Steel has the same organizational structure as Isibars;

(5) lists of suppliers and customers before and after the name change, indicating that they are identical;

(6) samples of letters and e-mails sent to customers announcing the name change;

(7) documentation demonstrating that India Steel has the same 'permanent account number’, or taxpayer identification number, as Isibars;

(8) a detailed description of the production facilities that existed before and after the name change indicating that India Steel has the same production facilities as Isibars;

(9) documentation demonstrating that India Steel maintains the same bank account as Isibars; and

(10) certificates of importer and exporter codes for Isibars and India Steel, issued by the Government of India showing that the codes are identical before and after the name change.

In summary, India Steel has presented evidence to establish a prima facie case of its successorship status. Isibars’s name change to India Steel has not changed the operations of the company in a meaningful way. India Steel’s management, production facilities, supplier relationships, and customer base are substantially unchanged from those of Isibars. The record evidence demonstrates that the new entity essentially operates in the same manner as the predecessor company. Consequently, we preliminarily determine that India Steel should be assigned the same antidumping duty treatment as Isibars, i.e., a 30.10 percent antidumping duty cash-deposit rate. See Amended Final Results.

The cash deposit determination from this changed-circumstances review will apply to all entries of the subject merchandise entered or withdrawn from warehouse for consumption on or after the date of publication of the final results of this changed-circumstances review. See Granular Polytetrafluoroethylene Resin from Italy; Final Results of Antidumping Duty Changed Circumstances Review, 68 FR 25327 (May 12, 2003). This deposit rate shall remain in effect until publication of the final results of the next administrative review in which India Steel is reviewed.

Public Comment

Interested parties are invited to comment on these preliminary results. Written comments may be submitted no later than 14 days after the date of publication of these preliminary results. Rebuttals to written comments, limited to issues raised in such comments, may be filed no later than 21 days after the date of publication. The Department will issue the final results of this changed-circumstances review, which will include the results of its analysis raised in any such written comments, no later than 270 days after the date on which this review was initiated, or within 45 days if all parties agree to our preliminary results. See 19 CFR 351.216(e).

This notice is published in accordance with section 751(b)(1) and 777(i) of the Act and 19 CFR 351.216 and 351.221.

Dated: September 18, 2008.
David M. Spooner,
Assistant Secretary for Import Administration.

[FR Doc. E8-22551 Filed 9-24-08; 8:45 am]

BILLING CODE 3510-DS-S